DEPARTMENT OF TRANSPORTATION

Federal Highway Administration

Environmental Impact Statement; Clark County, NV

AGENCY: Federal Highway Administration (FHWA), DOT.

ACTION: Notice of intent.

SUMMARY: The FHWA is issuing this notice to advise the public that an environmental impact statement will be prepared for a proposed highway project in the cities of Boulder City and Henderson, Clark County, Nevada/

FOR FURTHER INFORMATION CONTACT: Ted L. Bendure, Environmental Program Manager, Federal Highway Administration, 705 N. Plaza, Suite 220, Carson City, NV 89701, Telephone: 775-687-5322, E-mail:ted.bendure@fhwa.dot.gov.

SUPPLEMENTARY INFORMATION: The FHWA, in cooperation with the Nevada Department of Transportation, will prepare an environmental impact statement (EIS) on a proposal to improve U.S. Highway 93 (US 93) in the cities of Boulder City and Henderson, Clark County, Nevada. The proposed project would involve improvements to the US 93 Corridor between the west terminus of the present US 93 highway through Henderson, Nevada (milepost 59±), on the west end and the east terminus of the project on US 93 (milepost 2.5±), a point about 7.6 kilometers (4.7 miles) east of downtown Boulder City which is coincidental with the planned terminus of the US 93 Hoover Dam Bypass project. The project covers a total distance of approximately 16.7 kilometers (10.4 miles) on the present route.

Improvements to the corridor are considered necessary to provide for the existing and projected traffic demand and to correct existing high accident areas. Specifically, the project will evaluate mitigating congestion in the vicinity of Boulder City; replacing the at-grade railroad crossing near Railroad Pass; reducing the high accident rate at the signalized intersection of the Railroad Pass Casino entrance; upgrading the existing US 93/US 95 Interchange; and a tie-in with the US 93 Hoover Bypass Project. The EIS will consider the effects of the proposed project, the No Action alternative, and other alternatives to the proposed project.

Letters describing the proposed action and soliciting comments will be sent to appropriate Federal, State, and local agencies, and to private organizations and citizens who have previously expressed or are known to have interest in this project. A project scoping meeting will be held in Las Vegas, Nevada on February 22, 2000 with the appropriate agencies. In addition, public information meetings will be held throughout the duration of the project and a public hearing will be held for the draft EIS. Public notices will be given annnouncing the time and place of the public meetings and the hearing. The draft EIS will be available for public and agency review and comment prior to the public hearing.

To ensure that the full range of issues related to this proposed action are addressed and all significant issues identified, comments, and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program)

Issued on: January 3, 2000.
John T. Price,
Division Administrator, Federal Highway Administration.

[FR Doc. 00-2306 Filed 2-2-00; 8:45 am]

BILLING CODE 4910-22-M